DEPARTMENT OF COMMERCE

Bureau of the Census

[Docket Number 061012263-6263-01]

Annual Wholesale Trade Survey

AGENCY: Bureau of the Census, Commerce.

ACTION: Notice of determination.

SUMMARY: The Bureau of the Census (Census Bureau) is conducting the Annual Wholesale Trade Survey (AWTS), formerly named the Annual Trade Survey. The Census Bureau has determined a need to collect data covering annual sales, e-commerce sales, inventories, purchases, commissions, and operating expenses for the wholesale trade sector. These data are important inputs to the Bureau of Economic Analysis's preparation of National Income and Products accounts and its annual input-output tables.

ADDRESSES: The Census Bureau will furnish report forms to organizations included in the survey. Additional copies are available upon written request to the Director, U.S. Census Bureau, Washington, DC 20233-0101.

FOR FURTHER INFORMATION CONTACT: John R. Trimble, Chief, Annual Wholesale and Special Projects Branch, Service Sector Statistics Division, on (301) 763-7223 or by e-mail on John.R.Trimble@census.gov.

SUPPLEMENTARY INFORMATION: The AWTS is a continuation of similar wholesale trade surveys conducted each year since 1978 for wholesale distributors, since 2003 for manufacturers' sales branches and offices (MSBOs), and since 2005 for agents, brokers and electronic markets (AGBRs). This survey provides data on annual sales, e-commerce sales, inventories, and total operating expenses for wholesale distributors and MSBOs; purchases of goods for sale for wholesale distributors; and commissions and sales on the account of others for AGBRs.

The Census Bureau will require a selected sample of firms operating wholesale establishments in the United States (with sales size determining the probability of selection) to report in the 2006 AWTS. The sample will provide, with measurable reliability, statistics on the subjects specified above. We will furnish report forms to the firms covered by this survey and will require their submission within 30 days after receipt by mail, fax, or over the Internet, using the Census Taker option. Census Taker is a software system that provides a highly secure and user-friendly means of collecting survey and census information.

The Census Bureau is authorized to take surveys that are necessary to furnish current data on the subject covered by the censuses authorized by Title 13, United States Code (U.S.C.), Sections 182, 224, and 225. This survey will provide continuing and timely national statistics data on wholesale trade for the period between economic censuses. For 2006, the survey will include separate samples for wholesale distributors, MSBOs and AGBRs companies in the wholesale sector. The data collected in this survey will be similar and within the general scope and nature of those in the economic census. The data collected will provide a sound statistical basis for the formation of policy by various government agencies. These data also apply to a variety of public and business needs.

Notwithstanding any other provision of law, no person is required to respond to, nor shall a person be subject to a penalty for failure to comply with, a collection of information subject to requirements of the Paperwork Reduction Act (PRA) unless that collection of information displays a current valid Office of Management and Budget (OMB) control number. In accordance with the PRA, Title 44, U.S.C., Chapter 35, OMB approved this survey under OMB control number 0607-0195.

Based upon the foregoing, I have directed that an annual survey be conducted for the purpose of collecting these data.

Dated: October 24, 2006.
Charles Louis Kincannon,
Director, Bureau of the Census.

[FR Doc. E6-18075 Filed 10-27-06; 8:45 am]

BILLING CODE 3510-07-P